DEPARTMENT OF COMMERCE

National Oceanic and Atmospheric Administration

[I.D. 121205A]

Gulf of Mexico Fishery Management Council; Public Meetings

AGENCY: National Marine Fisheries Service (NMFS), National Oceanic and Atmospheric Administration (NOAA), Commerce.

ACTION: Notice of Law Enforcement Advisory Panel (LEAP) meeting via conference call.

SUMMARY: The Gulf of Mexico Fishery Management Council (Council) will reconvene its Law Enforcement Advisory Panel (LEAP) via Conference Call to approve the 2006 Operations Plan to the 2005-2010 Strategic Plan that outlines joint goals and objectives for state and federal marine resource enforcement activities. The call was originally scheduled for December 5, 2005 and had to be rescheduled.

DATES: The Conference Call will be held on Tuesday, January 3, 2006.

ADDRESSES: The meeting will be held via conference call and listening stations will be available. For specific locations see SUPPLEMENTARY INFORMATION.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Gulf of Mexico Fishery Management Council (Council) will convene its Law Enforcement Advisory Panel (LEAP) by conference call on Monday, January 3, 2006 at 4 p.m. e.s.t. This call was originally scheduled for December 5, 2005. The purpose of the meeting is to approve the 2006 Operations Plan to the 2005-2010 Strategic Plan that outlines joint goals and objectives for state and federal marine resource enforcement activities. Once approved by the LEAP, the Operations Plan will be submitted to the Council for approval at its January 2006 meeting. Listening stations for members of the public to hear the LEAP discussions will be set up at the Council office-2203 N. Lois Avenue, Suite 1100, Tampa, FL 33607 and at the Gulf States Marine Fisheries Commission Office—2404 Government Street, Ocean Springs, MS 39564.

A copy of the operations plan and related materials can be obtained by calling the Council office at (813) 348-1630.

Special Accommodations

These meetings are physically accessible to people with disabilities. Requests for sign language interpretation or other auxiliary aids should be directed to Dawn Aring at the Council (see ADDRESSES) at least 5 working days prior to the meeting.

Dated: December 12, 2005.
Emily Menashes,
Acting Director, Office of Sustainable Fisheries, National Marine Fisheries Service.

[FR Doc. E5-7385 Filed 12-14-05; 8:45 am]

BILLING CODE 3510-22-S